DEPARTMENT OF COMMERCE

National Oceanic and Atmospheric Administration

50 CFR Part 660

[Docket No. 000822244-1060-03; I.D. 030201B]

RIN 0648-AO66

Fisheries Off West Coast States and in the Western Pacific Western Pacific Pelagic Fisheries; Hawaii-based Pelagic Longline Area Closure

AGENCY: National Marine Fisheries Service (NMFS), National Oceanic and Atmospheric Administration (NOAA), Commerce.

ACTION: Emergency interim rule; notification of closure; clarification of closure requirements; request for comments.

SUMMARY: NMFS announces that the limit on the number of longline sets specified for Hawaii longline fishing restricted Area B, from January 1, 2001, through March 14, 2001, will not be reached. Therefore, NMFS will allow longline fishing to continue in Area B through March 14, 2001. Further, NMFS clarifies that from March 15, 2001 through May 31, 2001, the use of longline gear by vessels registered for use under Hawaii longline limited access permits (Hawaii-based longliners) is prohibited everywhere. Closure of Hawaii’s longline fishery takes effect at 0001 hours local time (l.t.) on March 15, 2001, at which time all Hawaii longliners at sea must have ceased fishing operations, removed their longline gear from the water, and be in active transit to the next port of call.

DATES: This emergency interim rule is effective from March 14, 2001 through August 20, 2001.

ADDRESSES: Send comments regarding any ambiguity or unnecessary complexity arising from the language used in this rule to Dr. Charles Karnella, NMFS, Pacific Islands Area Office (PIAO), 1601 Kapiolani Blvd., Suite 1110, Honolulu, HI 96814-4700.

FOR FURTHER INFORMATION CONTACT: Alvin Katekaru, PIAO, at 808-973-2935, ext. 207.

SUPPLEMENTARY INFORMATION: Emergency interim measures (66 FR 11120, February 22, 2001) governing the Hawaii-based longline fishery require the NMFS Southwest Region Regional Administrator to inform Hawaii-based longliners when further use of longline gear to fish for Pacific pelagic management unit species is prohibited in Hawaii Longline Fishing Restricted Area B (all waters bounded on the south by 28° N. lat., on the north by 44° N. lat., on the east by 137° W. long. and on the west by 150° W. long; and all waters bounded on the south by 28° N. lat., on the north by 44° N. lat., on the east by 168° W. long. and on the west by 173° E. long.). Based on longline observer information, the total amount of longline fishing effort expended by Hawaii-based longliners in Area B through March 14, 2001, will be close to, but less than, the limit of 77 longline sets allowed in the area; therefore, closure of Area B will coincide with closure of the Hawaii-based longline fishery on March 15, 2001.

At present, emergency measures prohibit the use of longline gear in Hawaii Longline Fishing Restricted Area A (waters bounded on the south by 28° N. lat., on the north by 44° N. lat., on the east by 150° W. long., and on the west by 168° W. long.). For Area B (previously described) and Hawaii Longline Fishing Restricted Area C (waters bounded on the south by 0° lat., on the north by 28° N. lat., on the east by 137° W. long., and on the west by 173° E. long.), longline fishing is prohibited from March 15, 2001, through May 31, 2001. Closure of Areas B and C, in addition to the currently closed Area A, is intended to comply with an order issued by the U.S. District Court for the District for Hawaii (Order Further Amending Order Modifying Provisions of Order of Injunction, August 4, 2000) in Center for Marine Conservation v. NMFS, Civ. No. 99-00152. Under the Order, longline fishing by Hawaii-based longliners is prohibited from March 15, 2001, through May 31, 2001.

When the emergency interim measures to close the Hawaii longline fishery were initially promulgated on August 25, 2000 (65 FR 51992), NMFS surmised that closing the longline fishing restricted areas, which encompass about 10 million square miles of the central and western Pacific Ocean, from March 15, 2001, through May 31, 2001, would effectively close the fishery. However, longline logbook information from August 1, 2000, through December 31, 2000, indicates that Hawaii longliners made at least 28 longline sets (19 sets east of 147° W. longitude and 9 sets west of 173° E. longitude) outside Areas A, B, and C. In this emergency interim rule, NMFS makes clear that the use of longline gear by Hawaii-based longliners is prohibited everywhere, inside and outside Areas A, B, and C.

The emergency interim rule also clarifies that closure of the Hawaii longline fishery takes effect at 0001 hours l.t. on March 15, 2001, at which time all Hawaii-based longliners must have ceased fishing operations, removed their longline gear from the water, and be in active transit to their next port of call.

This emergency interim rule is authorized under section 305(c)(3)(B) of the Magnuson-Stevens Fishery Conservation and Management Act.

Classification

The Assistant Administrator for Fisheries, NOAA (AA), has determined that clarification of the emergency interim rule is necessary to comply with a valid order of the U.S. District Court.

The AA finds for good cause that providing prior notice and opportunity for public comment for this action is unnecessary given that the Court ordered the specific actions contained in this emergency interim rule, thus precluding implementation of any alternative, and is impracticable given the Court’s deadline to close the fishery on March 15, 2001. Similarly, the AA finds, for good cause, under 5 U.S.C. 553(d)(3), that delaying the effectiveness of this emergency interim rule for 30 days is impracticable given the Court’s deadline. Accordingly, the AA is making this emergency interim rule effective from March 14, 2001 through August 20, 2001.

Because this emergency interim rule is not required to be published with notice and opportunity for public comment under 5 U.S.C. 553, or any other law, the analytical requirements of the Regulatory Flexibility Act do not apply.

This emergency interim rule has been determined to be not significant for purposes of Executive Order 12866.

The President has directed Federal Agencies to use plain language in their communications with the public, including regulations. To comply with this directive, we seek public comment on any ambiguity or unnecessary complexity arising from the language used in this emergency interim rule. (see ADDRESSES).

List of Subjects in 50 CFR Part 660

Administrative practice and procedure, American Samoa, Fisheries, Fishing, Guam, Hawaiian Natives, Indians, Northern Mariana Islands, Reporting and recordkeeping requirements.

Authority: 16 U.S.C. 1801 et seq.

Dated: March 14, 2001.
John Oliver,
Acting Assistant Administrator for Fisheries, National Marine Fisheries Service.

For the reasons set out in the preamble, 50 CFR is amended as follows:

PART 660—FISHERIES OFF THE WEST COAST STATES AND IN THE WESTERN PACIFIC

1. The authority citation for part 660 continues to read as follows:

2. In § 660.22, paragraph (ee) is revised to read as follows:

§ 660.22 Prohibitions.

* * * * *

(ee) Fish for Pacific pelagic management unit species with a vessel registered for use under a Hawaii longline limited access permit using longline gear in violation of § 660.33(a)(4), (b)(1), (c)(1), (c)(4), (c)(5), or (d)(1).

* * * * *

3. In § 660.33, new paragraph (a)(4), is added to read as follows:

§ 660.33 Hawaii emergency closure.

* * * * *

(a) * * *

(4) A vessel registered for use under a Hawaii longline limited access permit may not use longline gear to fish for Pacific pelagic management unit species from March 15 through May 31, 2001.

* * * * *

[FR Doc. 01-6763 Filed 3-14-01; 4:12 pm]

BILLING CODE 3510-22-S